DEPARTMENT OF COMMERCE

Patent and Trademark Office

[Docket No. PTO-C-2007-0036]

Performance Review Board (PRB)

AGENCY: United States Patent and Trademark Office, Department of Commerce.

ACTION: Notice.

SUMMARY: In conformance with the Civil Service Reform Act of 1978, 5 U.S.C. 4314(c)(4), the United States Patent and Trademark Office announces the appointment of persons to serve as members of its Performance Review Board.

ADDRESSES: Director, Human Capital Management, Office of Human Resources, United States Patent and Trademark Office, P.O. Box 1450, Alexandria, VA 22313-1450.

FOR FURTHER INFORMATION CONTACT: Kent Baum at (571) 272-6200.

SUPPLEMENTARY INFORMATION: The membership of the United States Patent and Trademark Office Performance Review Board is as follows:

Margaret J. A. Peterlin, Chair, Deputy Under Secretary of Commerce for Intellectual Property and Deputy Director of the United States Patent and Trademark Office.

Deborah S. Cohn, Vice Chair, Acting Chief Administrative Officer, United States Patent and Trademark Office.

John J. Doll, Commissioner for Patents, United States Patent and Trademark Office.

Lynne G. Beresford, Commissioner for Trademarks, United States Patent and Trademark Office.

David J. Freeland, Chief Information Officer, United States Patent and Trademark Office.

James A. Toupin, General Counsel, United States Patent and Trademark Office.

Lois E. Boland, Director, Office of Intellectual Property Policy and Enforcement, United States Patent and Trademark Office.

Barry K. Hudson, Chief Financial Officer, United States Patent and Trademark Office.

Jefferson D. Taylor, Director, Office of Governmental Affairs, United States Patent and Trademark Office.

Dated: October 11, 2007.
Jon W. Dudas,
Under Secretary of Commerce for Intellectual Property and Director of the United States Patent and Trademark Office.

[FR Doc. E7-20570 Filed 10-17-07; 8:45 am]

BILLING CODE 3510-16-P